SECURITIES AND EXCHANGE COMMISSION

[File No. 500-1]

In the Matter of Global Datatel, Inc. (n/k/a Xcana Petroleum, Inc.), Laminaire Corp. (n/k/a Cavico Corp.), Military Communications Technologies, Inc. (n/k/a Carbon Race Corporation), TAM Restaurants, Inc. (n/k/a Aerofoam Metals, Inc.), and Upside Development, Inc. (n/k/a Amorocorp); Order of Suspension of Trading

June 13, 2007.

It appears to the Securities and Exchange Commission that there is a lack of current and accurate information concerning the securities of Global Datatel, Inc. (n/k/a Xcana Petroleum, Inc.) because it has not filed any periodic reports since the period ended March 31, 2001, nor has it provided the public with current financial information since the deregistration of its stock on October 9, 2006.

It appears to the Securities and Exchange Commission that there is a lack of current and accurate information concerning the securities of Laminaire Corp. (n/k/a Cavico Corp.) because it has not filed any periodic reports since the period ended September 30, 1999.

It appears to the Securities and Exchange Commission that there is a lack of current and accurate information concerning the securities of Military Communications Technologies, Inc. (n/k/a Carbon Race Corporation) because it has not filed any periodic reports since the period ended March 31, 2004, nor has it provided the public with current financial information since the deregistration of its stock on October 9, 2006.

It appears to the Securities and Exchange Commission that there is a lack of current and accurate information concerning the securities of TAM Restaurants, Inc. (n/k/a Aerofoam Metals, Inc.) because it has not filed any periodic reports since the period ended June 27, 2001.

It appears to the Securities and Exchange Commission that there is a lack of current and accurate information concerning the securities of Upside Development, Inc. (n/k/a Amorocorp) because it has not filed any periodic reports since the period ended September 30, 2001.

The Commission is of the opinion that the public interest and the protection of investors require a suspension of trading in the securities of the above-listed companies.

Therefore, It is ordered, pursuant to Section 12(k) of the Securities Exchange Act of 1934, that trading in securities of the above-listed companies is suspended for the period from 9:30 a.m. EDT on June 13, 2007, through 11:59 p.m. EDT on June 26, 2007.

By the Commission.
Jill M. Peterson,
Assistant Secretary.

[FR Doc. 07-2988 Filed 6-13-07; 11:55 am]

BILLING CODE 8010-01-P